DEPARTMENT OF LABOR

Employment and Training Administration

[TA-W-58,145]

General Cable, A/K/A Nextgen Fiber Optics, A Subsidiary Of General Cable Technologies Corporation, Datacom Business Team Dayville, Connecticut; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 23, 2005, applicable to workers of General Cable, a subsidiary of General Cable Technologies Corp., Datacom Business Team, Dayville, Connecticut. The notice was published in the Federal Register on December 15, 2005 (70 FR 74369).

At the request of the State agency, the Department reviewed the certification for workers of the subject firm. The workers were engaged in the production of fiber communication cable.

New information shows that General Cable purchased NextGen Fiber Optics in July 2005 and that some workers separated from employment at the subject firm had their wages reported under a separate unemployment insurance (UI) tax account for NextGen Fiber Optics.

Accordingly, the Department is amending the certification to properly reflect this matter.

The intent of the Department's certification is to include all workers of General Cable, a subsidiary of General Cable Technologies Corporation, Datacom Business Team, Dayville, Connecticut, who were adversely affected by increased customer imports.

The amended notice applicable to TA-W-58,145 is hereby issued as follows:

All workers of General Cable, a/k/a NextGen Fiber Optics, a subsidiary of General Cable Technologies Corporation, Data Com Business Team, Dayville, Connecticut, who became totally or partially separated from employment on or after October 17, 2004, through November 21, 2007, are eligible to apply for adjustment assistance under Section 223 of the Trade Act of 1974, and are also eligible to apply for alternative trade adjustment assistance under Section 246 of the Trade Act of 1974.

Signed at Washington, DC, this 6th day of February 2006.
Elliott S. Kushner,
Certifying Officer, Division of Trade Adjustment Assistance.

[FR Doc. E6-2493 Filed 2-21-06; 8:45 am]

BILLING CODE 4510-30-P